DEPARTMENT OF COMMERCE

International Trade Administration

[C-351-504, A-351-503, A-122-503, A-570-502, A-821-801, A-823-801, A-570-001]

Iron Construction Castings From Brazil, Canada and China; Solid Urea From Russia and Ukraine; and Potassium Permanganate From China; Extension of Time Limits for the Final Results of Sunset Reviews of Countervailing and Antidumping Duty Orders

AGENCY: Import Administration, International Trade Administration, Department of Commerce.

EFFECTIVE DATE: January 27, 2005.

FOR FURTHER INFORMATION CONTACT: Martha Douthit, Import Administration, International Trade Administration, U.S. Department of Commerce, 14th Street and Constitution Avenue, NW., Washington, DC 20230; telephone: (202) 482-5050.

Extension of Preliminary and Final Results of Reviews

In accordance with section 751(c)(5)(B), the Department of Commerce (“the Department”) may extend the period of time for making its determination by not more than 90 days, if it determines that the review is extraordinarily complicated. As set forth in 751(c)(5)(C)(v) of the Tariff Act of 1930, as amended (“the Act”), the Department may treat a sunset review as extraordinarily complicated if it is a review of a transition order, as is the case in these proceedings. Therefore, the Department has determined, pursuant to section 751(c)(5)(C)(v) of the Act, that the sunset reviews of the countervailing duty order on iron construction castings from Brazil and the antidumping duty orders on iron construction castings from Brazil, Canada and China; solid urea from Russia and Ukraine; and potassium permanganate from China, are extraordinarily complicated and require additional time for the Department to complete its analysis. The Department's final results of these sunset reviews were originally scheduled for January 31, 2005. The Department will extend the deadlines in this proceedings and, as a result, intends to issue the final results of the sunset reviews on iron construction castings from Brazil, Canada and China; solid urea from Russia and Ukraine; and potassium permanganate from China on or about March 31, 2005, in accordance with section 751(c)(5)(B).

Dated: January 19, 2005.
Gary Taverman,
Acting Deputy Assistant Secretary for Import Administration.

[FR Doc. E5-313 Filed 1-26-05; 8:45 am]

BILLING CODE 3510-DS-P